DEPARTMENT OF VETERANS AFFAIRS

Notice of Intent To Prepare a Programmatic Environmental Impact Statement for the Department of Veterans Affairs, VA Greater Los Angeles Healthcare System (GLAHS), West Los Angeles Medical Center Campus, Proposed Master Plan for Improvements and Reconfiguration

AGENCY: Department of Veterans Affairs (VA).

ACTION: Notice of intent.

SUMMARY: VA intends to prepare a programmatic Environmental Impact Statement (EIS) for proposed improvements to and reconfiguration of the VA West Los Angeles Medical Center Campus (WLA). The WLA is part of the larger VA Greater Los Angeles Healthcare System (GLAHS) which serves tens of thousands of unique Veterans in Kern, Los Angeles, San Luis Obispo, Santa Barbara, and Ventura Counties

DATES: All written comments on the proposal should be submitted by June 30, 2017. VA will consider all comments received during the 30-day public comment period in determining the scope of the programmatic EIS. VA plans to conduct several public scoping meetings, in the month of June 2017, within the WLA service area; the dates, times, and locations of which will be announced and published at least 14 days prior to.

ADDRESSES: Submit written comments on VA's notice of intent to prepare a programmatic EIS through www.Regulations.gov or VHAGLAMasterPlan@va.gov. Please refer to: “WLA Notice of Intent to Prepare a Programmatic EIS.” Comments may also be submitted to Staff Assistant to the Director, VA Greater Los Angeles Healthcare System, 11301 Wilshire Boulevard, Los Angeles, California 90073.

FOR FURTHER INFORMATION CONTACT: Staff Assistant to the Director, VA Greater Los Angeles Healthcare System, at the address above or by telephone, 605-720-7170. Documents related to the WLA Master Plan Programmatic EIS will be available for viewing at http://www.losangeles.va.gov/masterplan/.

SUPPLEMENTARY INFORMATION: Pursuant to the National Environmental Policy Act (NEPA) of 1969 (42 U.S.C. 4331 et seq.); the Council on Environmental Quality (CEQ) Regulations for Implementing the Procedural Provisions of NEPA (40 CFR parts 1500-1508); United States Department of Veterans Affairs (VA) NEPA Implementing Guidance (38 CFR part 26); Section 106 of the National Historic Preservation Act (NHPA) of 1966 (54 U.S.C. Part 306108); and the Advisory Council on Historic Preservation (ACHP) Procedures for the Protection of Historic Properties (36 CFR part 800 et seq.), VA intends to prepare a programmatic Environmental Impact Statement (EIS) for proposed improvements to and reconfiguration of the VA West Los Angeles Medical Center Campus (WLA). The WLA is part of the larger VA Greater Los Angeles Healthcare System (GLAHS) which serves tens of thousands of unique Veterans in Kern, Los Angeles, San Luis Obispo, Santa Barbara, and Ventura Counties. The WLA is located at the major intersection of Sepulveda Boulevard, Interstate 405 (also known as the San Diego Freeway), and Wilshire Boulevard in Los Angeles, California, in the densely urbanized Brentwood neighborhood, and encompasses approximately 388 acres. WLA is one of the largest medical center campuses in the VA system, providing a full range of medical services to eligible Veterans, including state-of-the-art hospital and outpatient care, rehabilitation, residential care, and long-term care services. It also serves as a center for medical research and education and a major training site for medical residence in partnership with the David Geffen School of Medicine at the University of California, Los Angeles (UCLA), and the University of Southern California (USC) School of Medicine, as well as more than 45 colleges, universities, and vocational schools in 17 different medical, nursing, and other health care and administrative programs. The proposed action would involve evaluating potential ways to reconfigure and redevelop the existing WLA, expand points of access, and provide additional housing to homeless Veterans based upon the Framework Master Plan, to better serve the health care needs and distribution of Veterans in the GLAHS service area over the next 20 to 30 years. The effects and impacts to be addressed would include those identified in 40 CFR 1508.8; i.e., Aesthetics, Air Quality, Historic and Cultural Resources, Geology and Soils, Hydrology and Water Quality, Noise, Land Use, Floodplains, Wetlands and Coastal Zone Management, Socioeconomics, Community Services, Solid and Hazardous Materials, Transportation, Utilities, Environmental Justice and Cumulative Impacts. Both beneficial and detrimental effects of the proposed action would be identified as well. As part of the scoping process, VA seeks public input on the relative importance of these and other areas of environmental concern, mitigation measures, and suggestions regarding additional environmental impacts that should be evaluated. In addition, VA is substituting the NEPA process for compliance with NHPA, in accordance with § 36 CFR 800.8 (c), and in keeping with the joint CEQ-Advisory Council on Historic Preservation (ACHP) guidance on how to use NEPA in lieu of the procedures set forth in § 36 CFR 800.3 through 800.6. This handbook for integrating NEPA and Section 106 is dated March 2013, and available at http://www.achp.gov/docs/NEPA_NHPA_Section_106_Handbook_Mar2013.pdf. the meetings

With the publication of this notice, VA is initiating the scoping process to identify issues and concerns to be addressed in the programmatic EIS. Federal, state, tribal and local agencies; environmental, historic preservation organizations; businesses; interested parties; and the general public are encouraged to submit written comments identifying specific issues or topics of environmental concern that should be addressed.

Proposed Action and Alternatives: The WLA Framework Master Plan is a visionary blueprint that will assist VA to determine and implement the most effective use of the campus for Veterans, particularly for homeless Veterans, including underserved populations, such as female Veterans, aging Veterans, and those who are severely physically or mentally disabled. The primary considerations include: (a) The provision of appropriate levels of supportive housing on the campus, in renovated existing buildings or newly constructed facilities, while taking into account the parties' assessment of available housing units in the greater Los Angeles community; (b) respect for individual Veteran choices on whether to seek housing at WLA or in the local community; (c) parameters of applicable law, including but not limited to, the appropriate integration of persons with disabilities into the community, and applicable environmental and historic preservation laws, regulations, and consultation requirements; and (d) the need for appropriate levels of bridge and emergency housing along with short-term treatment services on campus, to provide state-of-the-art primary care, mental health, and addiction services to Veterans, particularly those that are chronically homeless.

The proposed action would involve multiple concurrent and/or subsequent projects to be executed. VA has identified several potential action alternatives to be analyzed in the Programmatic EIS for each grouping of projects. For each project or groupings of projects:

1. Alternative A: Relocation of any existing tenants and services to another existing building, complete renovation and retrofit of the existing building or buildings for a new function and service provider;

2. Alternative B: Relocation of any existing tenants and services to another existing building or buildings, complete renovation and retrofit of the existing building or buildings, and relocation of tenants back to the newly completed renovation;

3. Alternative C: Relocation of any existing tenants and services to another existing building or buildings, and the attendant complete demolition of former building or buildings, with construction of completely new building or buildings;

4. Alternative D: Relocation of any existing tenants and services to another existing building or buildings, complete demolition of former building or buildings, with no replacement of the demolished building or buildings;

5. Alternative E: Study of the impacts associated with the No Action or “status quo” alternative, as a basis for comparison to the action alternatives.

Relevant and reasonable measures that could alleviate or mitigate adverse effects and impacts also would be included. VA would undertake necessary consultations with other governmental agencies and consulting parties pursuant to the NHPA, Endangered Species Act, Clean Water Act, and other applicable environmental laws. Consultation would include, but is not limited to: Federal, state, tribal, and local agencies; the California Office of Historic Preservation as the State Historic Preservation Officer; and federally-recognized tribes with a geographic and/or cultural connection to the area. Information related to the NEPA process, including notices of public scoping and other informational meetings will be available for viewing on the WLA Master Plan Web site: http://www.losangeles.va.gov/masterplan/.

VA anticipates that many of the issues to be addressed in assessing the impacts of the alternatives may affect the physical plant of WLA. Most of the acreage of WLA is located within a National Register Historic District. The campus also contains buildings individually listed in the National Register of Historic Places and archaeological sites. Furthermore, the campus may contain archaeological sites not previously identified. In the interests of efficiency, completeness, and facilitating public involvement, it is VA's intention that all cultural impacts be addressed together, in consultation with all appropriate parties. To facilitate this inclusive process, VA will incorporate into its NEPA analysis process the review procedures for historic properties usually carried out separately under § 36 CFR 800.3 through 800.6 of the NHPA Section 106, a process known as substitution. This process will include the opportunity for parties with a demonstrated interest in historic properties, as well as members of the public, to consult with VA on the identification of those properties, the evaluation of effects of the project on those properties, and the mitigation of those effects that are adverse to historic properties.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on May 15, 2017, for publication.

Approved: May 15, 2017.
Jeffrey Martin,
Office Program Manager, Office of Regulation Policy & Management, Office of the Secretary, Department of Veterans Affairs.

[FR Doc. 2017-10158 Filed 5-18-17; 8:45 am]

BILLING CODE 8320-01-P